COMMISSION ON CIVIL RIGHTS

Agenda and Notice of Public Meeting of the North Dakota Advisory Committee

Notice is hereby given, pursuant to the provisions of the rules and regulations of the U.S. Commission on Civil Rights (USCCR), that a meeting of the North Dakota State Advisory Committee will convene at 1 p.m. (CDT) and adjourn at 4 p.m. (CDT), Thursday, April 20, 2006, at the Radisson Hotel, 201-5th Street, N, Fargo, ND 58102. The purpose of the meeting is to conduct orientation for new advisory committee members, provide an overview of the USCCR including recent Commission activities and new policies affecting advisory committees, brief Committee members on civil rights developments in the state including predatory lending, discrimination, race relations, and the administration of justice. The Committee will also discuss the regional project, “Confronting Discrimination in Reservation Border Town Communities” in North Dakota.

Persons desiring additional information, or planning a presentation to the Committee, should contact John F. Dulles, Director of the Rocky Mountain Regional Office, (303) 866-1040 (TDD 303-866-1049). Hearing-impaired persons who will attend the meeting and require the services of a sign language interpreter should contact the Regional Office at least ten (10) working days before the scheduled date of the meeting. . It was not possible to publish this notice 15 days in advance of the meeting date because of internal processing delays.

The meeting will be conducted pursuant to the provisions of the rules and regulations of the Commission.

Dated at Washington, DC, March 28, 2006.
Ivy L. Davis,
Chief, Regional Programs Coordination Unit.

[FR Doc. 06-3552 Filed 4-10-06; 12:29 pm]

BILLING CODE 6335-01-P